DEPARTMENT OF HOMELAND SECURITY

U.S. Citizenship and Immigration Services

[CIS No. 2733-22; DHS Docket No. USCIS-2014-0007]

RIN 1615-ZB75

Reconsideration and Rescission of Termination of the Designation of Honduras for Temporary Protected Status; Extension of the Temporary Protected Status Designation for Honduras

AGENCY: U.S. Citizenship and Immigration Services (USCIS), Department of Homeland Security (DHS).

ACTION: Notice of Reconsideration and Rescission of Termination of the Designation of Honduras for Temporary Protected Status (TPS) and Notice of Extension of TPS Designation for Honduras.

SUMMARY: Through this notice, the Department of Homeland Security (DHS) announces that the Secretary of Homeland Security (Secretary) is rescinding the previous termination of the designation of Honduras for TPS which was published on June 5, 2018 and extending the designation of Honduras for Temporary Protected Status (TPS) for 18 months, beginning on January 6, 2024, and ending on July 5, 2025. This extension allows existing TPS beneficiaries to retain TPS through July 5, 2025, so long as they otherwise continue to meet the eligibility requirements for TPS. Existing TPS beneficiaries who wish to extend their status through July 5, 2025, must re-register during the 60-day re-registration period as described in this notice.

DATES: The Rescission of Termination of the Designation of Honduras for TPS took effect June 9, 2023.

Extension of Designation of Honduras for TPS: The 18-month extension of TPS for Honduras begins on January 6, 2024, and will remain in effect through July 5, 2025. The extension impacts existing beneficiaries of TPS under the designation of Honduras.

Re-registration: The 60-day re-registration period for existing beneficiaries runs from November 6, 2023 through January 5, 2024.

FOR FURTHER INFORMATION CONTACT:

• You may contact Rená Cutlip-Mason, Chief, Humanitarian Affairs Division, Office of Policy and Strategy, U.S. Citizenship and Immigration Services, Department of Homeland Security, by mail at 5900 Capital Gateway Drive, Camp Springs, MD 20746, or by phone at 800-375-5283.

• For further information on TPS, including guidance on the registration process and additional information on eligibility, please visit the USCIS TPS web page at https://www.uscis.gov/tps. You can find specific information about Honduras's TPS designation by selecting “Honduras” from the menu on the left side of the TPS web page.

• If you have additional questions about TPS, please visit uscis.gov/tools. Our online virtual assistant, Emma, can answer many of your questions and point you to additional information on our website. If you are unable to find your answers there, you may also call our USCIS Contact Center at 800-375-5283 (TTY 800-767-1833).

• Applicants seeking information about the status of their individual cases may check Case Status Online, available on the USCIS website at uscis.gov, or visit the USCIS Contact Center at https://www.uscis.gov/contactcenter.

• Further information will also be available at local USCIS offices upon publication of this notice.

SUPPLEMENTARY INFORMATION:

Table of Abbreviations

BIA—Board of Immigration Appeals

CFR—Code of Federal Regulations

DHS—U.S. Department of Homeland Security

DOS—U.S. Department of State

EAD—Employment Authorization Document

FNC—Final Nonconfirmation

Form I-131—Application for Travel Document

Form I-765—Application for Employment Authorization

Form I-797—Notice of Action

Form I-821—Application for Temporary Protected Status

Form I-9—Employment Eligibility Verification

Form I-912—Request for Fee Waiver

Form I-94—Arrival/Departure Record

FR—Federal Register

Government—U.S. Government

IER—U.S. Department of Justice, Civil Rights Division, Immigrant and Employee Rights Section

IJ—Immigration Judge

INA—Immigration and Nationality Act

SAVE—USCIS Systematic Alien Verification for Entitlements Program

Secretary—Secretary of Homeland Security

TPS—Temporary Protected Status

TTY—Text Telephone

USCIS—U.S. Citizenship and Immigration Services

U.S.C.—United States Code

Purpose of This Action (TPS)

Through this notice, DHS announces the reconsideration and rescission of the termination of the designation of Honduras for TPS and the Secretary's decision to extend the TPS designation for 18 months from January 6, 2024, through July 5, 2025. This notice also sets forth procedures necessary for nationals of Honduras (or individuals having no nationality who last habitually resided in Honduras) to re-register for TPS and to apply for renewal of their EADs with USCIS.

Re-registration is limited to individuals who have previously registered or re-registered for TPS under Honduras' designation, whose applications were granted, and whose TPS has not been withdrawn for individual ineligibility for the benefit. Failure to re-register properly within the 60-day re-registration period may result in the withdrawal of your TPS following appropriate procedures. See 8 CFR 244.14.

For individuals who have already been granted TPS under Honduras's designation, the 60-day re-registration period runs November 6, 2023 through January 5, 2024. USCIS will issue new EADs with a July 5, 2025, expiration date to eligible Honduran TPS beneficiaries who timely re-register and apply for EADs.

Individuals who have a Honduras TPS application (Form I-821) and Application for Employment Authorization (Form I-765) that were still pending as of June 21, 2023 do not need to file either application again. If USCIS approves an individual's pending Form I-821, USCIS will grant the individual TPS through July 5, 2025. Similarly, if USCIS approves a pending TPS-related Form I-765 filed in connection with a Form I-821, USCIS will issue the individual a new EAD that will be valid through the same date. If you have TPS and only a pending Form I-765, you must file the Form I-821 to re-register for TPS or risk having your TPS withdrawn for failure to timely reregister without good cause. There are currently approximately 76,000 beneficiaries under Honduras's TPS designation who may be eligible to continue their TPS under the extension announced in this Notice.

What is Temporary Protected Status (TPS)?

• TPS is a temporary immigration status granted to eligible nationals of a foreign state designated for TPS under the INA, or to eligible individuals without nationality who last habitually resided in the designated foreign state before arrival in the United States, regardless of their country of birth.

• During the TPS designation period, TPS beneficiaries are eligible to remain in the United States, may not be removed, and are authorized to obtain EADs so long as they continue to meet the requirements of TPS.

• TPS beneficiaries may also apply for and be granted travel authorization as a matter of DHS discretion.

• To qualify for TPS, beneficiaries must meet the eligibility standards at INA section 244(c)(1)-(2), 8 U.S.C. 1254a(c)(1)-(2).

• When the Secretary terminates a foreign state's TPS designation, beneficiaries return to one of the following:

○ The same immigration status or category that they maintained before TPS, if any (unless that status or category has since expired or terminated); or

○ Any other lawfully obtained immigration status or category they received while registered for TPS, as long as it is still valid beyond the date TPS terminates.

When was Honduras designated for TPS?

Honduras was initially designated for TPS based on an environmental disaster that resulted in a substantial disruption of living conditions, in response to a request by the country's government, and because Honduras temporarily was unable to handle adequately the return of its nationals. See Designation of Honduras Under Temporary Protected Status, 64 FR 524 (Jan. 5, 1999). Since its initial designation in 1999, TPS for Honduras was extended thirteen consecutive times ¹ by subsequent Attorneys General and Secretaries of Homeland Security until 2017. That year, former Acting Secretary Elaine Duke did not make a decision on extending or terminating Honduras's TPS designation by the statutory deadline, resulting in an automatic 6-month extension of the designation, through July 5, 2018.²

¹ Extension of Designation of Honduras Under Temporary Protected Status Program, 65 FR 30438 (May 11, 2000); Extension of the Designation of Honduras Under the Temporary Protected Status Program, 66 FR 23269 (May 8, 2001); Extension of the Designation of Honduras Under the Temporary Protected Status Program, 67 FR 22451 (May 3, 2002); Extension of the Designation of Honduras Under Temporary Protected Status Program; Automatic Extension of Employment Authorization Documentation for Hondurans, 68 FR 23744 (May 5, 2003); Extension of the Designation of Temporary Protected Status for Honduras; Automatic Extension of Employment Authorization Documentation for Honduras TPS Beneficiaries, 69 FR 64084 (November 3, 2004); Extension of the Designation of Temporary Protected Status for Honduras; Automatic Extension of Employment Authorization Documentation for Honduras TPS Beneficiaries, 71 FR 16328 (March 31, 2006); Extension of the Designation of Honduras for Temporary Protected Status; Automatic Extension of Employment Authorization Documentation for Honduran TPS Beneficiaries, 72 FR 29529 (May 29, 2007); Extension of the Designation of Honduras for Temporary Protected Status, 73 FR 57133 (Oct. 1, 2008); Extension of the Designation of Honduras for Temporary Protected Status and Automatic Extension of Employment Authorization Documentation for Honduran TPS Beneficiaries, 75 FR 24734 (May 5, 2010); Extension of the Designation of Honduras for Temporary Protected Status and Automatic Extension of Employment Authorization Documentation for Honduran TPS Beneficiaries, 76 FR 68488 (Nov. 4, 2011); Extension of the Designation of Honduras for Temporary Protected Status, 78 FR 20123 (Apr. 3, 2013); Extension of the Designation of Honduras for Temporary Protected Status, 79 FR 62170 (Oct. 16, 2014); Extension of the Designation of Honduras for Temporary Protected Status, 81 FR 30331 (May 16, 2016).

² See 82 FR 59630 (Dec. 15, 2017). If the Secretary makes no decision on extension or termination of a country's TPS designation by at least 60 days before the expiration of the existing TPS designation, then INA, section 244(b)(3)(C) requires that the designation be extended an additional six months (or 12 or 18 months in the Secretary's discretion).

Following the statutorily required review of the country conditions, former Secretary Kirstjen M. Nielsen announced the termination of TPS for Honduras, with an effective date of January 5, 2020; see Termination of the Designation of Honduras for Temporary Protected Status; ³ see also INA secs. 244(b)(3)(A) and (B), 8 U.S.C. 1254a(b)(3)(A) and (B). As discussed below, this termination has been the subject of litigation and a court order that has prevented the termination from taking effect.

³ 83 FR 26074 (June 5, 2018).

Litigation Background Regarding Termination of Certain TPS Designations

In addition to Honduras, in 2017-2018, TPS was also terminated for five additional countries by the Secretary or Acting Secretary: Sudan, Nicaragua, El Salvador, Haiti, and Nepal.⁴ Lawsuits challenging the terminations were filed in the U.S. District Court for the Northern District of California in Ramos v. Nielsen, 326 F. Supp. 3d 1075 (N.D. Cal. 2018), and Bhattarai v. Nielsen, No. 19-cv-00731 (N.D. Cal. Mar. 12, 2019), and in the U.S. District Court for the Eastern District of New York in Saget, v. Trump, 375 F. Supp. 3d 280 (E.D.N.Y. 2019).⁵ In Ramos the district court granted a preliminary injunction enjoining the terminations of TPS for El Salvador, Haiti, Sudan, and Nicaragua and directed DHS to maintain the status quo and to continue the TPS and TPS-related documentation of affected TPS beneficiaries under those countries' designations. The U.S. Government appealed, and a three-judge panel vacated the injunction. The appellate court, however, has granted rehearing en banc of the panel decision, vacating the panel's decision.⁶ The court's preliminary injunction thus remains in place. In Bhattarai—which challenged the determination to terminate TPS for Honduras—the district court has stayed proceedings until the Ramos appeal is decided and approved the parties' stipulation for the continuation of TPS and TPS-related documentation for eligible, affected beneficiaries of TPS for Honduras and Nepal during the stay and pendency of the appeal. In Saget, the district court granted a preliminary injunction enjoining termination of TPS for Haiti, and the Government appealed.⁷ Beneficiaries under the TPS designations for El Salvador, Nicaragua, Sudan, Haiti, Honduras, and Nepal will retain their TPS while the preliminary injunction in Ramos remains in effect, and 120 days thereafter, provided that their TPS is not withdrawn because of individual ineligibility.⁸

⁴ Termination of the Designation of Sudan for Temporary Protected Status, 82 FR 47228 (Oct. 11, 2017); Termination of the Designation of Nicaragua for Temporary Protected Status, 82 FR 59636 (Dec. 15, 2017); Termination of the Designation of El Salvador for Temporary Protected Status, 83 FR 2654 (Jan. 18, 2018); Termination of the Designation of Haiti for Temporary Protected Status, 83 FR 2648 (Jan. 18, 2018); Termination of the Designation of Nepal for Temporary Protected Status, 83 FR 23705 (May 22, 2018). Haiti and Sudan were newly designated for TPS on August 3, 2021, and April 19, 2022, respectively, for 18 months. See Designation of Haiti for Temporary Protected Status, 86 FR 41863 (Aug. 3, 2021) and Designation of Sudan for Temporary Protected Status, 87 FR 23202 (Apr. 19, 2022).

⁵ See Ramos v. Nielsen, 336 F. Supp. 3d 1075 (N.D. Cal. 2018), vacated, 975 F.3d 872 (9th Cir. 2020), reh'g en banc granted, 59 F.4th 1010 (Feb. 10, 2023); Bhattarai v. Nielsen, No. 19-cv-00731 (N.D. Cal. Mar. 12, 2019) (staying proceedings until Ramos appeal decided and approved parties' stipulation for continued TPS and issuance of TPS-related documentation to eligible, affected beneficiaries of TPS for Honduras and Nepal during the stay and pendency of the appeal). In 2019, the U.S. District Court for the Eastern District of New York also enjoined the termination of the 2011 TPS designation for Haiti in Saget v. Trump, 375 F. Supp. 3d 280 (E.D.N.Y. 2019), and DHS cited to that order in previous notices continuing the affected beneficiaries' TPS and documentation. See, e.g., 86 FR 50725, 50726 (Sept. 10, 2021). However, the Saget case was dismissed upon the court's approval of the parties' joint Stipulation of Dismissal for mootness following the Secretary's new 18-month designation of Haiti for TPS on August 3, 2021, and DHS' continuation of existing beneficiaries' TPS and related documentation under the Ramos injunction through Dec. 31, 2022. See id., Order approving Stipulation of Dismissal, dated Oct. 15, 2021. Other litigation was filed relating to the terminations of El Salvador, Honduras, and Haiti. A Haiti-related case, NAACP v. U.S. Dept. of Homeland Security, No. 1:18-cv-00239 (D. Md., Jan. 24, 2018) was dismissed on May 22, 2021, subsequent to the same DHS designation. An El Salvador-related case, Casa de Maryland v. Biden, No. GJH-18-00845 (D. Md. Mar. 23, 2018) is currently stayed until April 17, 2023. Centro Presente v. Biden, No. 1:18-cv-10340 (D. Mass. July 23, 2018), relating to El Salvador, Haiti, and Honduras, is currently stayed until April 14, 2023.

⁶ See Ramos v. Wolf, 975 F.3d 872 (9th Cir. 2020), petition for reh'g en banc granted, 2023 WL 1880467 (Feb. 10, 2023) (No. 18-16981).

⁷ See Saget, et. al., v. Trump, et. al., 375 F.Supp 280 (E.D.N.Y. April 11, 2019) and Order approving Stipulation of Dismissal, dated Oct. 15, 2021.

⁸ As noted, Haiti was newly designated for TPS on August 3, 2021, for 18 months. See Designation of Haiti for Temporary Protected Status, 86 FR 41863 (Aug. 3, 2021). On April 19, 2022, the Secretary also newly designated Sudan TPS. See Designation of Sudan for Temporary Protected Status, 87 FR 23202 (Apr. 19, 2022). Plaintiffs in Ramos and Bhattarai remain eligible for TPS status based on DHS new and continued designations.

DHS has taken actions to ensure its continued compliance with the court orders in Ramos and Bhattarai. DHS has published periodic notices to continue TPS and extend the validity of TPS-related documentation previously issued to beneficiaries under the TPS designations for El Salvador, Haiti, Nicaragua, Sudan, Honduras, and Nepal.⁹ The most recent such notice continued TPS and extended the TPS-related documents specified in the notice through June 30, 2024.¹⁰ These extensions of documentation apply where the TPS beneficiary properly filed for re-registration during either the most recent DHS-announced registration period for their country, or any applicable previous DHS-announced re-registration periods for the beneficiary's country, or has a re-registration application that remains pending.¹¹ Although the notice published at 87 FR 68717 remains valid, individuals who wish to remain eligible for TPS under the extension of TPS for Honduras announced in this notice through July 5, 2025, and any potential future extensions must apply for re-registration in accordance with the procedures announced in this notice.¹² Failure to timely re-register without good cause is a ground for TPS withdrawal. See INA section 244(c)(3)(C); 8 U.S.C. 12(c)(3)(C); 8 CFR 244.17.

⁹ 83 FR 54764 (Oct. 31, 2018); 84 FR 7103 (March 1, 2019); 84 FR 20647 (May 10, 2019) (correction notice issued at 84 FR 23578 (May 22, 2019)); 84 FR 59403 (Nov. 4, 2019); 85 FR 79208 (Dec. 9, 2020); and 86 FR 50725 (Sept. 10, 2021) (correction notice issued at 86 FR 52694 (Sept. 22, 2021). Those designations cover all Haitian and Sudanese nationals who were eligible for TPS under the Haiti and Sudan TPS designations that were terminated in 2018 and 2017, respectively.

¹⁰ Continuation of Documentation for Beneficiaries of Temporary Protected Status Designations of El Salvador, Haiti, Nicaragua, Sudan, Honduras, and Nepal, 87 FR 68717 (Nov. 16, 2022).

¹¹ Id. See fn. 1 for acceptable re-registration periods for TPS Honduras beneficiaries).

¹² Through the re-registration process, which is generally conducted every 12 to 18 months while a foreign state is designated for TPS, USCIS determines whether each TPS beneficiary is continuing to maintain individual eligibility for TPS, including but not limited to, the requirements related to disqualifying criminal or security issues. Continuation of Documentation for Beneficiaries of Temporary Protected Status Designations for El Salvador, Haiti, Nicaragua, Sudan, Honduras, and Nepal, 87 FR 68717, 68720 (Nov. 16, 2022) (noting potential future action for Honduras TPS beneficiaries may include a requirement to re-register).

What authority does the Secretary have to reconsider and rescind the termination of TPS for Honduras?

Section 244(b)(1) of the INA, 8 U.S.C. 1254a(b)(1), authorizes the Secretary, after consultation with appropriate agencies of the U.S. Government, to designate a foreign state (or part thereof) for TPS if the Secretary determines that certain country conditions exist.¹³ The decision to designate any foreign state (or part thereof) is a discretionary decision, and there is no judicial review of any determination with respect to the designation, termination, or extension of a designation. See INA section 244(b)(5)(A); 8 U.S.C. 1254a(b)(5)(A).

¹³ Although the text of INA section 244(b)(1) continues to ascribe this power to the Attorney General, this authority is now held by the Secretary of Homeland Security by operation of the Homeland Security Act of 2002, Public Law 107296, 116 Stat. 2135. Congress transferred this authority from the Attorney General to the Secretary of Homeland Security. See Homeland Security Act of 2002, Public Law 107-296, 116 Stat. 2135. See, e.g., 6 U.S.C. 557; Nielsen v. Preap, 139 S. Ct. 954, 959 n.2 (2019). The Secretary may designate a country (or part of a country) for TPS on the basis of ongoing armed conflict such that returning would pose a serious threat to the personal safety of the country's nationals and habitual residents, environmental disaster (including an epidemic), or extraordinary and temporary conditions in the country that prevent the safe return of the country's nationals. For environmental disaster-based designations, certain other statutory requirements must be met, including that the foreign government must request TPS. A designation based on extraordinary and temporary conditions cannot be made if the Secretary finds that allowing the country's nationals to remain temporarily in the United States is contrary to the U.S. national interest. INA section 244(b)(1).

At least 60 days before the expiration of a foreign state's TPS designation, the Secretary, after consultation with appropriate U.S. Government agencies, must review the conditions in the foreign state designated for TPS to determine whether they continue to meet the conditions for the TPS designation. See INA section 244(b)(3)(A), 8 U.S.C. 1254a(b)(3)(A). If the Secretary determines that the foreign state no longer meets the conditions for TPS designation, the Secretary must terminate the designation. See INA section 244(b)(3)(B), 8 U.S.C. 1254a(b)(3)(B). If the Secretary does not determine that the foreign state no longer meets the conditions for TPS designation, the designation is extended for an additional period of 6 months or, in the Secretary's discretion, 12 or 18 months. See INA section 244(b)(3)(A), (C); 8 U.S.C. 1254a(b)(3)(A), (C).

On June 5, 2018, the Secretary of Homeland Security issued notice of her decision that Honduras no longer continued to meet the conditions for TPS designation and terminated TPS for Honduras stating that the conditions supporting Honduras's 1999 designation for TPS on the basis of environmental disaster due to the damage caused by Hurricane Mitch in October 1998 were no longer met. The Secretary also announced an orderly transition period of 18 months, such that the termination was set to go into effect on January 5, 2020. However, as noted above, plaintiffs in Bhattarai challenged the termination decisions for Honduras and Nepal. On March 12, 2019, the proceedings were stayed, and the parties stipulated that the termination decision would not go into effect during the pendency of the Ramos appeal and for at least 120 days thereafter. The district court also approved the parties' stipulation that TPS and TPS-related documentation of affected beneficiaries of the Honduras and Nepal TPS designations would continue under terms similar to those applied to the Ramos-covered beneficiaries. The order to stay proceedings and approval of the stipulation remain in effect.¹⁴ DHS has since issued a series of Federal Register notices continuing TPS and TPS-related documentation for affected TPS beneficiaries, with the most recent notice effective through June 30, 2024.¹⁵ As a result, the termination of the TPS designation for Honduras has never gone into effect, and TPS beneficiaries under that designation have retained their TPS, unless it has been individually withdrawn pursuant to INA section 244(c)(3), 8 U.S.C. 1254a(c)(3).

¹⁴ Bhattarai v. Nielsen, No. 19-cv-00731 (N.D. Cal. Mar. 12, 2019).

¹⁵ See 84 FR 20647(May 10, 2019) (correction notice issued at 84 FR 23578 (May 22, 2019)); 84 FR 59403 (Nov. 4, 2019); 85 FR 79208 (Dec. 9, 2020); and 86 FR 50725 (Sept. 10, 2021) (correction notice issued at 86 FR 52694 (Sept. 22, 2021); and 87 FR 68717 (Nov. 16, 2022). DHS had published previous notices to comply with the earlier preliminary injunction order issued by the Ramos court. See 83 FR 54764 (Oct. 31, 2018); 84 FR 7103 (March 1, 2019).

An agency has inherent (that is, statutorily implicit) authority to revisit its prior decisions within a reasonable period unless Congress has expressly limited that authority.¹⁶ The TPS statute does not limit the Secretary's inherent authority to reconsider any TPS-related determination, and upon reconsideration, to change the determination. See INA sections 244(b)(3), (b)(5)(A); 8 U.S.C. 1254a(b)(3), (b)(5)(A).

¹⁶ Ivy Sports Medicine, LLC v. Burwell, 767 F.3d 81, 86 (D.C. Cir. 2014) (“[A]dministrative agencies are assumed to possess at least some inherent authority to revisit their prior decisions, at least if done in a timely fashion. . . . [I]nherent authority for timely administrative reconsideration is premised on the notion that the power to reconsider is inherent in the power to decide.” (quotation marks and citations omitted)); NRDC v. Regan, 67 F.4th 397, 401 (D.C. Cir. 2023) (“[A]lthough the power to decide is normally accompanied by the power to reconsider, Congress undoubtedly can limit an agency's discretion to reverse itself.” (quotation marks omitted); Macktal v. Chao, 286 F.3d 822, 825-26 (5th Cir. 2002) (“It is generally accepted that in the absence of a specific statutory limitation, an administrative agency has the inherent authority to reconsider its decisions.”) (collecting cases); Mazaleski v. Treusdell, 562 F.2d 701, 720 (D.C. Cir. 1977) (“We have many times held that an agency has the inherent power to reconsider and change a decision if it does so within a reasonable period of time.”).

Why is the Secretary rescinding the previous termination of the TPS designation for Honduras?

After conducting an independent assessment of the country conditions in Honduras as they existed in 2018 and exist today, the Secretary has determined that Honduras's 1999 designation should not have been terminated. As explained below, the conditions in Honduras that gave rise to its TPS designation in 1999 persisted in 2018 and continue to this day. Accordingly, the Secretary is, upon reconsideration, rescinding the 2018 decision terminating Honduras's TPS designation and extending that designation for an additional 18 months.

Honduras was initially designated for TPS in 1999 ¹⁷ following the destruction wrought by Hurricane Mitch, which struck Honduras in October 1998, causing a substantial disruption of living conditions in Honduras.¹⁸ In the Secretary's view, the determination to terminate Honduras's TPS designation erroneously concluded that the conditions giving rise to that designation had been ameliorated by 2018, such that Honduras was able to adequately handle the return of its nationals. Numerous environmental, political, and social crises since Hurricane Mitch, however, have prevented the country from recovering from the hurricane and continue to impair Honduras from ensuring the safe return of its nationals.

¹⁷ Designation of Honduras Under Temporary Protected Status, 64 FR 526 (Jan. 5, 1999).

¹⁸ OCHA, Analysis of the medium-term effects of Hurricane Mitch on food security in Central America, Nov. 30, 2001, available at https://reliefweb.int/report/belize/analysis-medium-term-effects-hurricane-mitch-food-security-central-america.

Although recovery efforts were implemented in the years after Hurricane Mitch, the effects of Hurricane Mitch set back Honduras economically and socially by as much as 20 years.¹⁹ Since Hurricane Mitch, various hurricanes, tropical storms, and tropical depressions have made landfall in Honduras. These subsequent natural disasters, to which the termination decision gave inadequate attention, significantly impeded Hurricane Mitch-related reconstruction projects.

¹⁹ Suárez, Ginés, & Sánchez, Walter J., Desastres, riesgo y desarrollo en Honduras: Delineando los vínculos entre el desarrollo humano y la construcción de riesgo en Honduras, Programa de las Naciones Unidas para el Desarrollo (PNUD), p.22, Jan. 2012, available at: https://criterio.hn/wp-content/uploads/2020/11/INFORME-PNUD-desastres-ambientales-honduras.pdf.

Hurricane Mitch caused a substantial disruption of living conditions in Honduras, resulting in, among other things, substantial housing, and food shortages. See 65 FR 30438 (May 11, 2000). The determination to terminate TPS for Honduras failed to recognize that many of these conditions persisted in 2018, exacerbated by subsequent environmental disasters and other problems. The termination determination did not consider that in the years prior to the determination, approximately 1.3 million people remained in need of humanitarian assistance ²⁰ due in part to Hurricane Mitch and subsequent environmental impacts. For example, over 2 million Hondurans—approximately 25% of the population—had been severely affected by drought, and over 460,000 were in need of food assistance.²¹ By March 2017, consecutive years of drought had left many subsistence farmers in the Dry Corridor struggling to produce food.²² In addition to impacting food security, UNOCHA reported that the drought had also “contributed to the spread of mosquito-borne diseases, such as Zika, malaria, dengue and chikungunya.” ²³ Also contributing to illness was destruction from forest fires which increased by 40% in the first three months of 2017 compared to the same time period the previous year.²⁴ The termination decision failed to assess adequately or give sufficient weight to these health and safety issues that have persisted since Hurricane Mitch and impeded recovery from the hurricane.

²⁰ Central America Sub-Regional Analysis—El Salvador, Guatemala, Honduras: Humanitarian Needs Overview 2016 (Dec 2015), United Nations Office for the Coordination of Humanitarian Affairs (UNOCHA), p. 6, Jan. 14, 2016, available at: https://reliefweb.int/report/guatemala/central-america-sub-regional-analysis-el-salvador-guatemala-honduras-humanitarian.

²¹ El Niño: Overview of Impact, Projected Humanitarian Needs, and Reponses, p.18; WFP Honduras—Country Brief, p.1, Jun. 2016, available at: http://reliefweb.int/sites/reliefweb.int/files/resources/Honduras_CB_June2016OIM.pdf; UN Envoy: Drought-hit Honduras Needs New Approach to Tackle Extreme Weather, Reuters, Aug. 1, 2016, available at: http://www.voanews.com/a/un-envoy-drought-hit-honduras-needs-new-approach-to-tackle-extreme-weather/3444720.html.

²² Hares, Sophie, Honduran farmers prize rainwater as most precious harvest, Thomson Reuters Foundation, Mar. 22, 2017, available at: http://reliefweb.int/report/honduras/honduran-farmers-prize-rainwater-most-precious-harvest.

²³ El Niño: Overview of Impact, Projected Humanitarian Needs, and Reponses, UN Office for the Coordination of Humanitarian Affairs (UNOCHA), p. 23, June 3, 2016, available at: https://reliefweb.int/report/world/el-ni-o-overview-impact-projected-humanitarian-needs-and-response-02-june-2016.

²⁴ En un 40% aumentan incendios en el país, La Tribuna (Hon.), Apr. 2, 2017, available at: http://reliefweb.int/report/honduras/en-un-40-aumentan-incendios-en-el-pa-s.

The decision to terminate also did not appropriately consider that despite efforts and foreign assistance after Hurricane Mitch, Honduras was still experiencing a housing deficit. According to a 2016 study by Habitat for Humanity Honduras, Honduras had a housing deficit exceeding 1.3 million units.²⁵

²⁵ Habitat for Humanity Honduras, Habitat for Humanity, available at: http://www.habitat.org/where-we-build/honduras (last visited Apr. 6, 2023).

Aside from environmental impacts on the recovery from Hurricane Mitch, at the time of the decision to terminate TPS, Honduras continued to face challenges of violent crime, which have likewise made recovery from the hurricane more difficult.²⁶ In 2016, there were an estimated 174,000 internally displaced people in Honduras.²⁷ “Internal displacement was generally caused by violence, national and transnational gang activity, human trafficking, and migrant smuggling.” ²⁸ Additionally, although Honduras's murder rate had been falling in recent years, Honduras remained “one of the world's deadliest peacetime nations” in 2017 with a murder rate of 59.1 killings per 100,000 people.²⁹ Extortion remained a critical problem and a major source of violence that impacted almost all segments of society, including bus and taxi companies, small businesses, and ordinary citizens.³⁰ Together, these factors negatively impacted Honduras's ability to adequately handle the return of its nationals granted TPS.

²⁶ World Report 2018—Honduras Events of 2017, Human Rights Watch, Jan. 18, 2018, available at: https://www.hrw.org/world-report/2018/country-chapters/honduras (last visited: Apr. 6, 2023); Freedom in the World 2018, Honduras, Freedom House, Jan. 2018, available at: https://freedomhouse.org/country/honduras/freedom-world/2018 (last visited: Apr. 6, 2023).

²⁷ U.S. Department of State, 2017 Country Reports on Human Rights Practices: Honduras, Apr. 20, 2018, available at: https://www.state.gov/reports/2017-country-reports-on-human-rights-practices/honduras/ (last visited: Apr. 6, 2023).

²⁸ Id.

²⁹ Reuters, Honduras murder rate fell by more than 25 percent in 2017: government, Jan. 18, 2018, available at: https://www.reuters.com/article/us-honduras-violence/honduras-murder-rate-fell-by-more-than-25-percent-in-2017-government-idUSKBN1ER1K9 (last visited: Mar. 17, 2023).

³⁰ Gurney, Krya, What an Extortion Call in Honduras Sounds Like, InSight Crime, Mar. 4, 2015, available at: http://www.insightcrime.org/news-analysis/what-an-extortion-call-in-honduras-sounds-like; Refworld, UNHCR Eligibility Guidelines for Assessing the International Protection Needs of Asylum-Seekers from Honduras, July 27, 2016, available at: https://www.refworld.org/docid/579767434.html (last visited: March 17, 2023).

At the time of the TPS termination decision, the country continued to suffer from impacts of Hurricane Mitch and subsequent environmental events, including humanitarian needs, hunger, disease, housing deficits, and underdeveloped infrastructure, in addition to widespread violence. The enduring impact of Hurricane Mitch in Honduras at the time of the decision to terminate TPS continued to substantially disrupt living conditions. Those enduring conditions impacting Honduras's ability to recover from Hurricane Mitch along with Honduras's challenges with violent crime affected the country's ability to adequately handle the return of its nationals granted TPS residing in the United States. The Secretary has concluded that reconsideration and rescission of the termination of TPS is timely, particularly given that the 2018 termination decision has not yet gone into effect.

What authority does the Secretary have to extend the designation of Honduras for TPS?

As noted above, INA section 244(b), 8 U.S.C. 1254a(b), authorizes the Secretary, after consultation with appropriate agencies of the U.S. Government, to designate a foreign state (or part thereof) for TPS if the Secretary determines that certain country conditions exist and instructs the Secretary to periodically review the country conditions underpinning each designation and determine whether they still exist, leading to either termination or extension of the TPS designation. However, if the Secretary does not make a decision as to either extension or termination, then INA section 244(b)(3)(C) requires the automatic extension of the designation for six months (or 12 or 18 months in the Secretary's discretion).

Prior to the now-rescinded termination of the TPS designation for Honduras, the most recent extension of the designation was due to end on July 5, 2018.³¹ In light of the Secretary's reconsideration and rescission of the June 5, 2018 notice of termination of the TPS designation for Honduras, there is no longer any standing secretarial determination that Honduras “no longer meets the conditions for designation” under INA section 244(b)(1). Accordingly, with this rescission of the prior termination, pursuant to INA section 244(b)(3)(C), and in the absence of an affirmative decision by any Secretary to extend the designation for 12 or 18 months rather than the automatic six months triggered by the statute, the TPS designation for Honduras shall have been extended in consecutive increments of 6 months between the date when the last designation extension was due to end on July 5, 2018, and the effective date of the TPS extension announced in this Notice, January 6, 2024. Coupled with the existing Bhattarai order and corresponding Federal Register notices continuing the TPS and TPS-related documentation for affected beneficiaries under the designation for Honduras, this means that all such individuals whose TPS has not been finally withdrawn for individual ineligibility are deemed to have retained TPS since July 5, 2018, and may re-register under procedures announced in this notice.

³¹ 82 FR 59631 (Dec. 15, 2017).

Why is the Secretary extending the TPS designation for Honduras for TPS for 18 months through July 5, 2025?

DHS has reviewed country conditions in Honduras. Based on the review, including input received from DOS and other U.S. Government agencies, the Secretary has determined that an 18-month TPS extension is warranted because the environmental disaster conditions and substantial disruption of living conditions supporting Honduras's TPS designation remain.

Since Honduras was designated for TPS in January 1999, various natural disasters, and related environmental concerns—including hurricanes, tropical storms, flooding and heavy rain, severe drought, and mosquito-borne illnesses—have contributed to loss of life and damages to property and infrastructure in Honduras and prevented the country from fully recovering from Hurricane Mitch. Additionally, since the extension of TPS for Honduras in 2018,³² violence and social and political concerns have adversely impacted living conditions and hindered recovery from environmental disasters in Honduras.³³ These subsequent natural disasters, violence, and social and political concerns continue to inflict damage on a population that has not fully recovered from Hurricane Mitch and impact Honduras's ability to adequately handle the return of its nationals granted TPS. Accordingly, the Secretary has concluded that the conditions that gave rise to Honduras's 1999 TPS designation persist, and an extension is therefore warranted. Since Hurricane Mitch, Honduras has been impacted by a “repetitive cycle” of storm-related damage to infrastructure and 16 of the 18 departments in the country recently reported damaged roads, collapsed bridges, devastated crops, flooded houses, and landslides.³⁴

³² The TPS designation of Honduras was statutorily automatically extended for 6 months (from January 6, 2018, through July 5, 2018) after the Secretary of Homeland Security did not make a determination on Honduras's designation 60 days prior to the previous expiration (January 5, 2018). Subsequently, on June 5, 2018, the Secretary published a determination to terminate TPS for Honduras, effective January 5, 2020.

³³ United Nations Office for the Coordination of Humanitarian Affairs, Honduras Humanitarian Needs Overview 2023 (September 2022) (Feb. 8, 2023), https://reliefweb.int/report/honduras/honduras-humanitarian-needs-overview-2023-september-2022 (last visited Mar. 13, 2023).

³⁴ Starting from Scratch Over and Over Again: Heavy Rains and Floods Displace Thousands of Hondurans, International Organization for Migration (IOM), Oct. 28, 2022, available at: https://reliefweb.int/report/honduras/starting-scratch-over-and-over-again-heavy-rains-and-floods-displace-thousands-hondurans (last visited Apr. 6, 2023).

In 2019, Honduras experienced a severe drought that “decimated staple-crop harvests of beans and maize by up to 80% in some areas,” and led the government to declare a state of emergency.³⁵ In November 2020, within weeks of each other,³⁶ hurricanes Eta and Iota, both Category 4 storms,³⁷ struck Honduras. UNHCR noted that “more than 4 million people were affected by Hurricanes Eta and Iota in Honduras alone,” ³⁸ about “half the country's population.” ³⁹ “In 2020, hurricanes Eta and Iota forced more than 55,000 to move into temporary shelters, according to the Red Cross.” ⁴⁰ In rural areas, the storms destroyed fields and slow receding water hindered sowing, impacting the livelihood of those who depend on seasonal crops. In urban areas, the storms greatly impacted populations already suffering socioeconomic effects of the COVID-19 pandemic, job losses, and increased violence.⁴¹

³⁵ Moloney, Anastasia, In Honduras, years of drought pressure farmers to leave land, Reuters, Sept. 27, 2019, available at: https://reliefweb.int/report/honduras/honduras-years-drought-pressure-farmers-leave-land.

³⁶ In Honduras, climate change is one more factor sparking displacement, United Nations High Commissioner for Refugees (UNHCR), Nov. 9, 2021, available at: https://reliefweb.int/report/honduras/honduras-climate-change-one-more-factor-sparking-displacement.

³⁷ The National Oceanic and Atmospheric Administration (NOAA) defines category 4 hurricanes as major storms with winds between 130-156 miles per hour which cause catastrophic damage. See: Saffir-Simpson Hurricane Wind Scale, National Oceanic and Atmospheric Administration, https://www.nhc.noaa.gov/aboutsshws.php. (last visited Jun. 17, 2022).

³⁸ In Honduras, climate change is one more factor sparking displacement, United Nations High Commissioner for Refugees (UNHCR), Nov. 9, 2021, available at: https://reliefweb.int/report/honduras/honduras-climate-change-one-more-factor-sparking-displacement.

³⁹ Lakhani, Nina, `We can't live like this': climate shocks rain down on Honduras's poorest, The Guardian, Oct. 28, 2021, available at: https://www.theguardian.com/environment/2021/oct/28/honduras-climate-crisis-floods-hurricanes-poor-community.

⁴⁰ World Report 2022—Honduras, Human Rights Watch, Jan. 13, 2022, available at: https://www.hrw.org/world-report/2022/country-chapters/honduras#dbcb23.

⁴¹ Honduras: Hurricane Eta and Iota—Emergency appeal n° MDR43007 Operation Update no. 2, International Federation of Red Cross and Red Crescent Societies (IFRC), Jan. 21, 2021, available at: https://reliefweb.int/report/honduras/honduras-hurricane-eta-and-iota-emergency-appeal-n-mdr43007-operation-update-no-2.

Among the storms affecting Honduras recently was Tropical Storm Julia, which “wreaked havoc in 15 of the country's 18 departments.” ⁴²Flooding related to Julia is estimated to have affected over 200,000 Hondurans.⁴³ Even a “relatively weak” hurricane like Julia reportedly can cause significant destruction in Honduras due to unaddressed damage to infrastructure from previous storms.⁴⁴

⁴² United Nations Office for the Coordination of Humanitarian Affairs, Honduras Humanitarian Needs Overview 2023 (September 2022) (Feb. 8, 2023), https://reliefweb.int/report/honduras/honduras-humanitarian-needs-overview-2023-september-2022 (last visited Feb. 9, 2023).

⁴³ Id.

⁴⁴ Brigida, Anna-Cat, Hurricane Julia pushes displaced Hondurans to consider migration, Al Jazeera, Oct. 18, 2022, available at: https://www.aljazeera.com/news/2022/10/18/hurricane-julia-pushes-displaced-hondurans-to-consider-migration.

Recent tropical storms, flooding, and subsequent landslides across the country in 2022 “affected 188,000 people” and sparked another government declared country-wide state of emergency, after 23,000 people were evacuated from homes and more than 12,300 people moved into housing shelters across eight departments.⁴⁵ As of August 2022, “more than 16,000 public educational centers in Honduras lack adequate infrastructure. Some 5,700 centers lack drinking water, and 44% of schools do not have electricity.” ⁴⁶ “Between 1 September and 10 October, 162 municipalities in 15 of the 18 departments in Honduras reported damage to basic and critical infrastructure, including over 3,500 damaged or destroyed houses (COPECO/Gov't of Honduras 11/10/2022).” ⁴⁷

⁴⁵ ACAPS Briefing Note: Honduras—Impact of Floods, ACAPS, p.1, Oct. 27, 2022, available at: https://reliefweb.int/report/honduras/acaps-briefing-note-honduras-impact-floods-27-october-2022.

⁴⁶ Quartucci, Soledad, Educational Reform in Honduras-The Roots of Challenges and the Way Forward, Latina Republic, Aug. 29, 2022, available at: https://latinarepublic.com/2022/08/29/educational-reform-in-honduras-the-roots-of-challenges-and-the-way-forward/.

⁴⁷ ACAPS Briefing Note: Honduras—Impact of Floods, ACAPS, p.1, Oct. 27, 2022, available at: https://reliefweb.int/report/honduras/acaps-briefing-note-honduras-impact-floods-27-october-2022.

The Food and Agriculture Organization of the United Nations (FAO) noted in April 2022 that “[t]he number of acutely food-insecure people in Honduras has doubled in just over a year, due to the combined impact of COVID-19, poverty and climate-related disasters.” ⁴⁸ The United Nations estimated a similar impact, reporting that in early 2022, 2.8 million people in Honduras were in need of humanitarian assistance.⁴⁹ Recent reports indicate that food insecurity is worsening, with at least 2.6 million people in Crisis (IPC Phase 3) ⁵⁰ or worse levels of food insecurity, which is more than a quarter of the population.⁵¹ Environmental events have been a driving factor for food insecurity by “affecting food production and availability and increasing staple food prices in markets,” such that Honduras faced a “Crisis (IPC Phase 3) food insecurity.” ⁵²

⁴⁸ Honduras: Humanitarian Response Plan 2022, Food and Agriculture Organization of the United Nations (FAO), p.1, Apr. 6, 2022, available at: https://reliefweb.int/report/honduras/honduras-humanitarian-response-plan-2022.

⁴⁹ Global Humanitarian Overview 2022, United Nations Office for the Coordination of Humanitarian Affairs, https://www.unocha.org/sites/unocha/files/Global%20Humanitarian%20Overview%202022.pdf.

⁵⁰ IPC Acute Food Insecurity is categorized in five distinct phases: (1) Minimal/None, (2) Stressed, (3) Crisis, (4) Emergency, (5) Catastrophe/Famine. For additional information on these classifications, please see the IPC Technical Manual, available at: https://www.ipcinfo.org/fileadmin/user_upload/ipcinfo/docs/IPC-Manual-2-Interactive.pdf.

⁵¹ United Nations Office for the Coordination of Humanitarian Affairs, Honduras Humanitarian Needs Overview 2023 (September 2022) (Feb. 8, 2023), https://reliefweb.int/report/honduras/honduras-humanitarian-needs-overview-2023-september-2022. (last visited Mar. 13, 2023).

⁵² ACAPS Briefing Note: Honduras—Impact of Floods, ACAPS, p.2, Oct. 27, 2022, available at: https://www.acaps.org/sites/acaps/files/products/files/20221027_acaps_rapid_analysis_team_briefing_note_honduras_flooding.pdf.

In June 2022, The Guardian reported that pneumonia was “one of the leading causes of child death in Honduras,” and deaths of children “caused by the disease are strongly linked to malnutrition, lack of safe water and sanitation, and inadequate access to healthcare.” ⁵³ Honduras reported the highest number of severe dengue fever cases in the Americas in both 2020 ⁵⁴ and 2021.⁵⁵ In 2020, the risks of major infectious diseases including typhoid fever, dengue fever and malaria were also rated as high.⁵⁶ According to the U.S. Embassy in Honduras, “medical care in Honduras varies greatly in quality and availability.” ⁵⁷ Outside of Honduras's two major cities, it is “inadequate to address complex situations,” “facilities for advanced surgical procedures are not available,” and “ambulance services are limited in major cities and almost non-existent elsewhere.” ⁵⁸

⁵³ Johnson, Sarah, Fears for Honduran children as poverty worsens pneumonia's toll, The Guardian, June 9, 2022, available at: https://www.theguardian.com/global-development/2022/jun/09/poverty-drought-impending-famine-now-pneumonia-takes-its-cruel-toll-on-honduran-children-acc.

⁵⁴ Epidemiological Update for Dengue, Chikungunya and Zika in 2020, Pan American Health Organization, updated June 16, 2022, available at: https://www3.paho.org/data/index.php/en/mnu-topics/indicadores-dengue-en/annual-arbovirus-bulletin-2020.html.

⁵⁵ Epidemiological Update for Dengue, Chikungunya and Zika in 2021, Pan American Health Organization, updated June 16, 2022, available at: https://www3.paho.org/data/index.php/en/mnu-topics/indicadores-dengue-en/annual-arbovirus-bulletin-2021.html.

⁵⁶ World Fact Book, U.S. Central Intelligence Agency, available at: https://www.cia.gov/the-world-factbook/countries/honduras/ (last visited June 23, 2022).

⁵⁷ Medical Assistance, U.S. Embassy in Honduras, https://hn.usembassy.gov/u-s-citizen-services/local-resources-of-u-s-citizens-2/doctors/ (last visited Jun. 16, 2022).

⁵⁸ Medical Assistance, U.S. Embassy in Honduras, https://hn.usembassy.gov/u-s-citizen-services/local-resources-of-u-s-citizens-2/doctors/ (last visited Jun. 16, 2022).

“Honduras is one of the most unequal, corrupt and violent countries in Latin America, where a handful of politically powerful clans control the economy while more than two-thirds of the population live in poverty.” ⁵⁹ In 2021, Honduras “saw some of its worst political violence in the run-up to November's presidential elections . . . [in which] 68 candidates in various local and national races were killed.” ⁶⁰ The United States indicted the out-going president of Honduras, Juan Orlando Hernandez, (president of Honduras from 2014 through January 2022),⁶¹ on federal drug and arms trafficking charges shortly after he left office,⁶² and Honduras extradited him to the United States in April 2022 to face the charges.⁶³ The current president who took office on January 27, 2022, inherited the remnants of what U.S. prosecutors have called a “narco state.” ⁶⁴

⁵⁹ Lakhani, Nina, `We can't live like this': climate shocks rain down on Honduras's poorest, The Guardian, Oct. 28, 2021, available at: https://www.theguardian.com/environment/2021/oct/28/honduras-climate-crisis-floods-hurricanes-poor-community.

⁶⁰ InSight Crime's 2021 Homicide Round-Up, Insight Crime, Feb. 1, 2022, available at: https://insightcrime.org/news/insight-crimes-2021-homicide-round-up/.

⁶¹ Honduras ex-President Hernandez pleads not guilty in U.S. court, Al Jazeera, May 10, 2022, available at: https://www.aljazeera.com/news/2022/5/10/honduras-ex-president-hernandez-pleads-not-guilty-in-us-court.

⁶² Fernández Simon, Maite, Who is Juan Orlando Hernández and why was he extradited to the U.S.?, The Washington Post, Apr. 21, 2022, available at: https://www.washingtonpost.com/world/2022/04/21/honduras-juan-orlando-hernandez-extradition/.

⁶³ Martin, Maria and Griffiths, Robbie, Ex-Honduran President Hernández is extradited to the U.S. on drug charges, National Public Radio (NPR), Apr. 21, 2022, available at: https://www.npr.org/2022/04/21/1093975738/ex-honduran-president-hernandez-will-be-extradited-to-the-u-s-on-drugs-charges.

⁶⁴ Grant, Will, Has Honduras become a `narco-state'?, BBC News, Apr. 22, 2022, available at: https://www.bbc.com/news/world-latin-america-56947595.

In recent years, Honduras has been plagued by staggering levels of crime and violence—ranking as the murder capital of the world in 2012 and 2013.⁶⁵ Gangs that originated in the United States are engaged in violent fighting in Honduras. They “have laid siege to communities” and “have plunged the country into a state of crisis”—“govern[ing] much of daily life for residents living in their areas of control, [as] stand-ins for a corrupt and ineffectual government.” ⁶⁶ A UNHCR representative stated in November 2021 that gangs in Honduras “took advantage of the extreme vulnerability of victims of the hurricanes to tighten their control, imposing restrictions on movements [. . .] For many who were displaced by the storms, going back could be dangerous.” ⁶⁷ Honduras was Central America's most deadly country in 2021, with homicides slightly outpacing 2020, and falling below rates in 2019.⁶⁸

⁶⁵ Kahn, Carrie, Honduras Claims Unwanted Title Of World's Murder Capital, NPR, July 2, 2013, available at: http://www.npr.org/sections/parallels/2013/06/13/190683502/honduras-claims-unwanted-title-of-worlds-murder-capital; Rhodan, Maya, Honduras Is Still the Murder Capital of The World, Time, Feb. 17, 2014, available at: http://world.time.com/2014/02/17/honduras-is-still-the-murder-capital-of-the-world/; UNHCR Eligibility Guidelines for Assessing the International Protection Needs of Asylum-Seekers from Honduras, UNHCR, p.10, July 27, 2016, available at: http://www.refworld.org/docid/579767434.html.

⁶⁶ Azam, Ahmed, Three Weeks Embedded in Honduran Gang Territory, The New York Times, May 7, 2019.

⁶⁷ Rubi, María and Gaynor, Tim, In Honduras, climate change is one more factor sparking displacement, United Nations High Commissioner for Refugees (UNHCR), Nov. 9, 2021, available at: https://reliefweb.int/report/honduras/honduras-climate-change-one-more-factor-sparking-displacement.

⁶⁸ InSight Crime's 2021 Homicide Round-Up, Insight Crime, Feb. 1, 2022, available at: https://insightcrime.org/news/insight-crimes-2021-homicide-round-up/.

In 2020, internally displaced Hondurans “represented almost 80 percent of the internally displaced population in Central America and Mexico.” ⁶⁹ The United Nations Office for the Coordination of Humanitarian Affairs (UNOCHA) reported that “Honduras registered 937,000 new displacements, ranking it among the top four countries in Latin America and the Caribbean for new disaster-triggered displacements . . . surpass[ing] countries such as South Sudan in the number of new displacements due to disasters and conflicts in 2020.” ⁷⁰ The United Nations High Commissioner for Refugees (UNHCR) reported in July 2022 that “58,000 families abandon their homes in Honduras annually, being internally displaced due to the violence crisis in the country.” ⁷¹

⁶⁹ World Report 2022—Honduras, Human Rights Watch, Jan. 13, 2022, available at: https://www.hrw.org/world-report/2022/country-chapters/honduras#dbcb23.

⁷⁰ Honduras: Humanitarian Response Plan (August 2021-December 2022), United Nations Office for the Coordination of Humanitarian Affairs (UNOCHA), Nov. 19, 2021, available at: https://reliefweb.int/report/honduras/honduras-humanitarian-response-plan-august-2021-december-2022.

⁷¹ Honduras External Update—June to July 2022, United Nations High Commissioner for Refugees (UNHCR), Jul. 31, 2022, available at: https://reliefweb.int/report/honduras/honduras-external-update-june-july-2022.

In summary, Honduras's slow recovery after Hurricane Mitch and more recent environmental disasters, including hurricanes, tropical storms, flooding and heavy rain, severe drought, and mosquito-borne illness, continue to disrupt living conditions and render Honduras temporarily unable to handle the return of those granted TPS under the 1999 designation and are currently residing in the United States. Additionally, since the 2018 extension of TPS for Honduras,⁷² violence, social and political concerns have adversely impacted living conditions and hindered recovery from environmental disasters in Honduras.

⁷² The TPS designation of Honduras was statutorily automatically extended for 6 months (from January 6, 2018, through July 5, 2018) after the Secretary of Homeland Security did not make a determination on Honduras's designation 60 days prior to the previous expiration (January 5, 2018). Subsequently, on June 5, 2018, the Secretary published a determination to terminate TPS for Honduras, effective January 5, 2020.

Based upon this review and after consultation with appropriate U.S. Government agencies, the Secretary has determined that:

• At the time the Secretary's determination to terminate Honduras's designation for TPS was announced on June 5, 2018, conditions in Honduras continued to support the country's designation for TPS based on environmental disaster grounds; therefore, the termination should be rescinded, and such rescission is timely given that the termination has not yet gone into effect. See INA section 244(b)(1)(B), 8 U.S.C. 1254a(b)(1)(B).

• The conditions supporting Honduras's designation for TPS continue to be met. See INA section 244(b)(3)(A) and (C), 8 U.S.C. 1254a(b)(3)(A) and (C).

• There has been an earthquake, flood, drought, epidemic, or other environmental disaster in Honduras resulting in a substantial, but temporary, disruption of living conditions in the area affected; Honduras is unable, temporarily, to handle adequately the return of its nationals; and Honduras officially requested designation of TPS. See INA section 244(b)(1)(B)(i), 8 U.S.C. 1254a(b)(1)(B)(i);

• The designation of Honduras for TPS should be extended for an 18-month period, beginning on January 6, 2024, and ending on July 5, 2025. See INA section 244(b)(3)(C), 8 U.S.C. 1254a(b)(3)(C).

Notice of the Rescission of TPS Termination and Extension of the TPS Designation of Honduras

Pursuant to my lawful authorities, including under sections 103(a) and 244 of the INA, I am hereby rescinding the termination of the TPS designation of Honduras announced in the Federal Register at 83 FR 26074 (June 5, 2018). Due to this rescission and pursuant to section 244(b)(3)(C) of the INA as well as the court order in Bhattarai v. Nielsen, No. 19-cv-00731 (N.D. Cal. Mar. 12, 2019), the TPS designation of Honduras has continued to exist since July 5, 2018, without a standing secretarial determination as to whether TPS should be extended or terminated. TPS beneficiaries under the designation, whose TPS has not been finally withdrawn for individual ineligibility, therefore have continued to maintain their TPS since July 5, 2018.

By the authority vested in me as Secretary under INA section 244, 8 U.S.C. 1254a, I have determined, after consultation with the appropriate U.S. Government agencies, the statutory conditions supporting Honduras's designation for TPS on the basis of an environmental disaster continue to be met. See INA sections 244(b)(1)(B), 244(b)(3)(A); 8 U.S.C. 1254a(b)(1)(B), 1254a(b)(3)(A). On the basis of this determination, I am extending the existing designation of Honduras for TPS for 18 months, beginning on January 6, 2024, and ending on July 5, 2025. See INA section 244(b)(1)(B), (b)(3)(C); 8 U.S.C. 1254a(b)(1)(B), (b)(3)(C). Individuals holding TPS under the designation of Honduras may file to reregister for TPS under the procedures announced in this Notice if they wish to continue their TPS under this 18-month extension.

Alejandro N. Mayorkas,
Secretary, U.S. Department of Homeland Security.

Eligibility and Employment Authorization for TPS

Required Application Forms and Application Fees to Re-Register for TPS:

To re-register for TPS based on the designation of Honduras, you must submit a Form I-821, Application for Temporary Protected Status during the 60-day re-registration period that runs November 6, 2023 through January 5, 2024. There is no Form I-821 fee for re-registration. See 8 CFR 244.17. You may be required to pay the biometric services fee. If you can demonstrate an inability to pay the biometric services fee, you may request to have the fee waived. Please see additional information under the “Biometric Services Fee” section of this notice.

Individuals who have a Honduras TPS application (Form I-821) that was still pending as of June 21, 2023 do not need to file the application again. If USCIS approves an individual's Form I-821, USCIS will grant the individual TPS through July 5, 2025.

Required Application Forms and Application Fees To Obtain an EAD

Every employee must provide their employer with documentation showing they have a legal right to work in the United States. TPS beneficiaries are authorized to work in the United States and are eligible for an EAD which proves their employment authorization. If you have an existing EAD issued under the TPS designation of Honduras that has been auto-extended through June 30, 2024 by the notice published at 87 FR 68717, you may continue to use that EAD through that date. If you want to obtain a new EAD valid through July 5, 2025, you must file an Application for Employment Authorization (Form I-765) and pay the Form I-765 fee (or request a fee waiver, which you may submit on Form I-912, Request for Fee Waiver).

You may, but are not required to, submit Form I-765, Application for Employment Authorization, with your Form I-821 re-registration application. If you do not want a new EAD now, you can request one later by filing your I-765 and paying the fee (or requesting a fee waiver) at that time, provided you have TPS or a pending TPS application. If you have TPS and only a pending Form I-765, you must file the Form I-821 to re-register for TPS or risk having your TPS withdrawn for failure to reregister without good cause.

Information About Fees and Filing

USCIS offers the option to applicants for TPS under Honduras's designation to file Form I-821 and related requests for EADs online or by mail. When filing a TPS application, applicants can also request an EAD by submitting a completed Form I-765, with their Form I-821.

Online filing: Form I-821 and I-765 are available for concurrent filing online.⁷³ To file these forms online, you must first create a USCIS online account.⁷⁴ However, if you are requesting a fee waiver, you cannot submit the applications online. You will need to file paper versions of the fee waiver request and the form for which you are requesting the fee waiver.

⁷³ Find information about online filing at “Forms Available to File Online,” https://www.uscis.gov/file-online/forms-available-to-file-online.

⁷⁴ https://myaccount.uscis.gov/users/sign_up.

Mail filing: Mail your application for TPS to the proper address in Table 1.

Table 1—Mailing Addresses

Mail your completed Form I-821, Application for Temporary Protected Status and Form I-765, Application for Employment Authorization, Form I-912, Request for Fee Waiver, if applicable, and supporting documentation to the proper address in Table 1.

Table 1—Mailing Addresses
If you live in: | Then mail your application to:
• Alabama | USCIS Phoenix Lockbox.
• Alaska • American Samoa • Arizona • Arkansas | U.S. Postal Service (USPS): USCIS, Attn: TPS Honduras, P.O. Box 21800, Phoenix, AZ 85036-1800. FedEx, UPS, or DHL: USCIS, Attn: TPS Honduras (Box 21800), 2108 E. Elliot Rd., Tempe, AZ 85284-1806.
• California
• Colorado
• Guam
• Hawaii
• Idaho
• Kentucky
• Louisiana
• Mississippi
• Montana
• Nevada
• New Mexico
• North Carolina
• Northern Mariana Islands
• Oklahoma
• Oregon
• Puerto Rico
• Tennessee
• Texas
• Utah
• Virgin Islands
• Virginia
• Washington
• West Virginia
• Wyoming
• Connecticut | USCIS Elgin Lockbox.
• Delaware • District of Columbia • Florida | U.S. Postal Service (USPS): USCIS, Attn: TPS Honduras, P.O. Box 4091, Carol Stream, IL 60197-4091. FedEx, UPS, or DHL: USCIS, Attn: TPS Honduras (Box 4091), 2500 Westfield Drive, Elgin, IL 60124-7836.
• Georgia |
• Illinois |
• Indiana |
• Iowa |
• Kansas |
• Maine |
• Maryland |
• Massachusetts |
• Michigan |
• Minnesota |
• Missouri |
• Nebraska |
• New Hampshire |
• New Jersey |
• New York |
• North Dakota |
• Ohio |
• Pennsylvania |
• Rhode Island |
• South Carolina |
• South Dakota |
• Vermont |
• Wisconsin |

If you were granted TPS by an immigration judge (IJ) or the Board of Immigration Appeals (BIA) and you wish to request an EAD, please mail your Form I-765 application to the appropriate mailing address in Table 1. When you are requesting an EAD based on an IJ/BIA grant of TPS, please include a copy of the IJ or BIA order granting you TPS with your application. This will help us verify your grant of TPS and process your application.

Supporting Documents

The filing instructions on the Form I-821 list all the documents needed to establish eligibility for TPS. You may also find information on the acceptable documentation and other requirements for applying (i.e., registering) for TPS on the USCIS website at https://www.uscis.gov/tps under “Honduras.”

Travel

TPS beneficiaries may also apply for and be granted travel authorization as a matter of discretion. You must file for travel authorization if you wish to travel outside of the United States. If granted, travel authorization gives you permission to leave the United States and return during a specific period. To request travel authorization, you must file Form I-131, Application for Travel Document, available at https://www.uscis.gov/i-131. You may file Form I-131 together with your Form I-821 or separately. When filing the Form I-131, you must:

• Select Item Number 1.d. in Part 2 on the Form I-131; and

• Submit the fee for the Form I-131, or request a fee waiver, which you may submit on Form I-912, Request for Fee Waiver.

If you are filing Form I-131 together with Form I-821, send your forms to the address listed in Table 1. If you are filing Form I-131 separately based on a pending or approved Form I-821, send your form to the address listed in Table 2 and include a copy of Form I-797 for the approved or pending Form I-821.

Table 2—Mailing Addresses
If you are . . . | Mail to . . .
Filing Form I-131 together with a Form I-821, Application for Temporary Protected Status | The address provided in Table 1.
Filing Form I-131 based on a pending or approved Form I-821, and you are using the U.S. Postal Service (USPS): | USCIS, Attn: I-131 TPS, P.O. Box 660167, Dallas, TX 75266-0867.
You must include a copy of the receipt notice (Form I-797 or I-797C) showing we accepted or approved your Form I-821.
Filing Form I-131 based on a pending or approved Form I-821, and you are using FedEx, UPS, or DHL: | USCIS, Attn: I-131 TPS, 2501 S State Hwy. 121 Business, Ste. 400, Lewisville, TX 75067.
You must include a copy of the receipt notice (Form I-797 or I-797C) showing we accepted or approved your Form I-821.

Biometric Services Fee for TPS

Biometrics (such as fingerprints) are required for all applicants 14 years of age and older. Those applicants must submit a biometric services fee. As previously stated, if you are unable to pay the biometric services fee, you may request a fee waiver, which you may submit on Form I-912, Request for Fee Waiver. For more information on the application forms and fees for TPS, please visit the USCIS TPS web page at https://www.uscis.gov/tps. Fees for Form I-765 and biometric services are also described in 8 CFR 103.7(b)(1) (Oct. 1, 2020). If necessary, you may be required to visit an Application Support Center to have your biometrics captured. For additional information on the USCIS biometric screening process, please see the USCIS Customer Profile Management Service Privacy Impact Assessment, available at https://www.dhs.gov/publication/dhsuscispia-060-customer-profile-management-service-cpms.

Refiling a TPS Re-Registration Application After Receiving a Denial of a Fee Waiver Request

You should file as soon as possible within the 60-day re-registration period so USCIS can process your application and issue your EAD promptly, if one has been requested. Properly filing early will also allow you to have time to refile your application before the deadline, should USCIS deny your fee waiver request. The fee waiver denial notice will contain specific instructions about resubmitting your application. However, you are urged to refile within 45 days of the date on any USCIS fee waiver denial notice, if possible. See INA section 244(c)(3)(C); 8 U.S.C. 1254a(c)(3)(C); 8 CFR 244.17(b). For more information on good cause for late re-registration, visit the USCIS TPS web page at www.uscis.gov/tps.

Note: A re-registering TPS beneficiary age 14 and older must pay the biometric services fee (but not the Form I-821 fee), or request a fee waiver, when filing a TPS re-registration application. As discussed above, if you decide to wait to request an EAD, you do not have to file the Form I-765 or pay the associated Form I-765 fee (or request a fee waiver) at the time of re-registration. You may wait to seek an EAD until after USCIS has approved your TPS re-registration application or at any later date you decide you want to request an EAD. To re-register for TPS, you only need to file the Form I-821 with the biometrics services fee, if applicable, (or request a fee waiver).

General Employment-Related Information for TPS Applicants and Their Employers

How can I obtain information on the status of my TPS application and EAD request?

To get case status information about your TPS application, as well as the status of your TPS-based EAD request, you can check Case Status Online at uscis.gov, or visit the USCIS Contact Center at https://www.uscis.gov/contactcenter. If your Form I-765 has been pending for more than 90 days, and you still need assistance, you may ask a question about your case online at https://egov.uscis.gov/e-request/Intro.do or call the USCIS Contact Center at 800-375-5283 (TTY 800-767-1833).

When hired, what documentation may I show to my employer as evidence of identity and employment authorization when completing Form I-9?

You can find the Lists of Acceptable Documents on Form I-9, Employment Eligibility Verification, as well as the Acceptable Documents web page at https://www.uscis.gov/i-9-central/acceptable-documents. Employers must complete Form I-9 to verify the identity and employment authorization of all new employees. Within three days of hire, employees must present acceptable documents to their employers as evidence of identity and employment authorization to satisfy Form I-9 requirements.

You may present any document from List A (which provides evidence of both identity and employment authorization) or one document from List B (which provides evidence of your identity) together with one document from List C (which provides evidence of employment authorization), or you may present an acceptable receipt as described in the Form I-9 Instructions. Employers may not reject a document based on a future expiration date. You can find additional information about Form I-9 on the I-9 Central web page at https://www.uscis.gov/I-9Central. An EAD is an acceptable document under List A.

If I have an EAD based on another immigration status, can I obtain a new TPS-based EAD?

Yes, if you are eligible for TPS, you can obtain a new TPS-based EAD, regardless of whether you have an EAD or work authorization based on another immigration status. If you want to obtain a new TPS-based EAD valid through July 5, 2025, then you must file Form I-765, Application for Employment Authorization, and pay the associated fee (unless USCIS grants your fee waiver request).

Can my employer require that I provide any other documentation such as evidence of my status or proof of my Honduran citizenship or a Form I-797C showing that I registered for TPS for Form I-9 completion?

No. When completing Form I-9, employers must accept any documentation you choose to present from the Form I-9 Lists of Acceptable Documents that reasonably appears to be genuine and that relates to you, or an acceptable List A, List B, or List C receipt. Employers need not reverify List B identity documents. Employers may not request proof of Honduran citizenship or proof of registration for TPS when completing Form I-9 for new hires or reverifying the employment authorization of current employees. Refer to the “Note to Employees” section of this Federal Register notice for important information about your rights if your employer rejects lawful documentation, requires additional documentation, or otherwise discriminates against you based on your citizenship or immigration status, or your national origin. Employers can refer to the compliance notice that DHS published on November 16, 2022, for information on how to complete the Form I-9 with TPS EADs that DHS extended through June 30, 2024.⁷⁵

⁷⁵ Continuation of Documentation for Beneficiaries of Temporary Protected Status Designations for El Salvador, Haiti, Nicaragua, Sudan, Honduras, and Nepal, 87 FR 68717 (Nov. 16, 2022).

Note to All Employers

Employers are reminded that the laws requiring proper employment eligibility verification and prohibiting unfair immigration-related employment practices remain in full force. This Federal Register notice does not supersede or in any way limit applicable employment verification rules and policy guidance, including those rules setting forth reverification requirements. For general questions about the employment eligibility verification process, employers may call USCIS at 888-464-4218 (TTY 877-875-6028) or email USCIS at I-9Central@uscis.dhs.gov. USCIS accepts calls and emails in English and many other languages. For questions about avoiding discrimination during the employment eligibility verification process (Form I-9 and E-Verify), employers may call the U.S. Department of Justice, Civil Rights Division, Immigrant and Employee Rights Section (IER) Employer Hotline at 800-255-8155 (TTY 800-237-2515). IER offers language interpretation in numerous languages. Employers may also email IER at IER@usdoj.gov.

Note to Employees

For general questions about the employment eligibility verification process, employees may call USCIS at 888-897-7781 (TTY 877-875-6028) or email USCIS at I-9Central@uscis.dhs.gov. USCIS accepts calls in English, Spanish and many other languages. Employees or job applicants may also call the IER Worker Hotline at 800-255-7688 (TTY 800-237-2515) for information regarding employment discrimination based on citizenship, immigration status, or national origin, including discrimination related to Form I-9 and E-Verify. The IER Worker Hotline provides language interpretation in numerous languages.

To comply with the law, employers must accept any document or combination of documents from the Lists of Acceptable Documents if the documentation reasonably appears to be genuine and to relate to the employee, or an acceptable List A, List B, or List C receipt as described in the Form I-9 Instructions. Employers may not require extra or additional documentation beyond what is required for Form I-9 completion. Further, employers participating in E-Verify who receive an E-Verify case result of “Tentative Nonconfirmation” (mismatch) must promptly inform employees of the mismatch and give such employees an opportunity to take action to resolve the mismatch. A mismatch result means that the information entered into E-Verify from Form I-9 differs from records available to DHS.

Employers may not terminate, suspend, delay training, withhold or lower pay, or take any adverse action against an employee because of a mismatch while the case is still pending with E-Verify. A Final Nonconfirmation (FNC) case result is received when E-Verify cannot confirm an employee's employment eligibility. An employer may terminate employment based on a case result of FNC. Work-authorized employees who receive an FNC may call USCIS for assistance at 888-897-7781 (TTY 877-875-6028). For more information about E-Verify-related discrimination or to report an employer for discrimination in the E-Verify process based on citizenship, immigration status, or national origin, contact IER's Worker Hotline at 800-255-7688 (TTY 800-237-2515). Additional information about proper nondiscriminatory Form I-9 and E-Verify procedures is available on the IER website at https://www.justice.gov/crt/immigrant-and-employee-rights-section and the USCIS and E-Verify websites at https://www.uscis.gov/i-9-central and https://www.e-verify.gov.

Note Regarding Federal, State, and Local Government Agencies (Such as Departments of Motor Vehicles)

This Federal Register Notice does not invalidate the compliance notice DHS issued on November 16, 2022, which extended the validity of certain TPS documentation through June 30, 2024, and does not require individuals to present a Form I-797, Notice of Action. While Federal Government agencies must follow the guidelines laid out by the Federal Government, State and local government agencies establish their own rules and guidelines when granting certain benefits. Each state may have different laws, requirements, and determinations about what documents you need to provide to prove eligibility for certain benefits. Whether you are applying for a Federal, State, or local government benefit, you may need to provide the government agency with documents that show you are a TPS beneficiary, show you are authorized to work based on TPS or other status, or that may be used by DHS to determine if you have TPS or another immigration status. Examples of such documents are:

• Your current EAD with a TPS category code of A-12 or C-19, even if your country of birth noted on the EAD does not reflect the TPS designated country of Honduras; or

• Your Form I-94, Arrival/Departure Record or Form I-797, Notice of Action, as shown in the Federal Register notice published at 87 FR 68717.

Check with the government agency requesting documentation regarding which document(s) the agency will accept. Some state and local government agencies use the SAVE program to confirm the current immigration status of applicants for public benefits.

While SAVE can verify that an individual has TPS, each state and local government agency's procedures govern whether they will accept an unexpired EAD, Form I-797, Form I-797C, or Form I-94. It may also assist the agency if you:

a. Give the agency a copy of the relevant Federal Register notice listing the TPS-related document, including any applicable auto-extension of the document, in addition to your recent TPS-related document with your A-number, USCIS number or Form I-94 number;

b. Explain that SAVE will be able to verify the continuation of your TPS using this information; and

c. Ask the agency to initiate a SAVE query with your information and follow through with additional verification steps, if necessary, to get a final SAVE response verifying your TPS.

You can also ask the agency to look for SAVE notices or contact SAVE if they have any questions about your immigration status or any automatic extension of TPS-related documentation. In most cases, SAVE provides an automated electronic response to benefit-granting agencies within seconds, but occasionally verification can be delayed.

You can check the status of your SAVE verification by using CaseCheck at https://save.uscis.gov/casecheck/. CaseCheck is a free service that lets you follow the progress of your SAVE verification case using your date of birth and one immigration identifier number (A-number, USCIS number, or Form I-94 number) or Verification Case Number. If an agency has denied your application based solely or in part on a SAVE response, the agency must offer you the opportunity to appeal the decision in accordance with the agency's procedures. If the agency has received and acted on or will act on a SAVE verification and you do not believe the SAVE response is correct, the SAVE website, www.uscis.gov/save, has detailed information on how to correct or update your immigration record, make an appointment, or submit a written request to correct records.

[FR Doc. 2023-13017 Filed 6-20-23; 8:45 am]

BILLING CODE 9111-97-P